ENVIRONMENTAL PROTECTION AGENCY

40 CFR Parts 19 and 27

[FRL—7231-6]

Civil Monetary Penalty Inflation Adjustment Proposed Rule

AGENCY: Environmental Protection Agency (EPA).

ACTION: Proposed rule.

SUMMARY: The Environmental Protection Agency (“EPA”) proposes to amend the final Civil Monetary Penalty Inflation Adjustment Rule as mandated by the Debt Collection Improvement Act of 1996 to adjust EPA's civil monetary penalties (“CMPs”) for inflation on a periodic basis. The Agency is required to review its penalties at least once every four years and to adjust them as necessary for inflation according to a specified formula. In the “Rules and Regulations” section of Federal Register, we are publishing the adjustments to EPA's CMPs as a direct final rule without prior proposal because we view this as a noncontroversial adjustment to the CMPs and anticipate no adverse comment. We have explained our reasons for this approval in the preamble to the direct final rule. If we receive no adverse comment, we will not take further action on this rule. If we receive adverse comment, we will withdraw the direct final rule and it will not take effect. We will address all public comments in a subsequent final rule based on this proposed rule. We will not institute a second comment period on this action. Any parties interested in commenting must do so at this time.

DATES: Written comments must be received by July 18, 2002.

FOR FURTHER INFORMATION CONTACT: David Abdalla, Office of Regulatory Enforcement, Multimedia Enforcement Division, Mail Code 2248A, 1200 Pennsylvania Avenue, NW., Washington, DC 20460, (202) 564-2413.

SUPPLEMENTARY INFORMATION: This document concerns Civil Monetary Penalty Inflation Adjustment Rule. For further information, please see the information provided in the direct final action that is located in the “Rules and Regulations” section of this Federal Register publication.

Dated: May 31, 2002.
Christine Todd Whitman,
Administrator, Environmental Protection Agency.

[FR Doc. 02-15191 Filed 6-17-02; 8:45 am]

BILLING CODE 6560-50-P